DEPARTMENT OF ENERGY

Federal Energy Regulatory Commission

[Docket Nos. CP04-411-000 and CP04-416-000]

Crown Landing LLC, Texas Eastern Transmission, LP; Notice of Applications

September 29, 2004.

Take notice that on September 16, 2004, Crown Landing LLC (Crown Landing), 501 WestLake Park Boulevard, Houston, Texas 77079, filed an application, in Docket No. CP04-411-000, seeking authorization pursuant to section 3 of the Natural Gas Act (NGA) and Part 153 of the Commission's regulations to site, construct and operate a liquefied natural gas (LNG) terminal in Logan Township, Gloucester County, New Jersey on the Delaware River. The LNG terminal will receive and unload LNG carriers from around the world, store the equivalent of 9.2 Bcf of natural gas and provide a baseload send-out capacity of 1.2 Bcfd. Crown Landing requests approval of its request by July 1, 2005. Any questions regarding this application should be directed to Lauren B. Segal, Vice President, Crown Landing LLC, 501 WestLake Park Blvd., Houston, Texas 77079 or phone (281)366-2259 or FAX (281)366-2753.

Also take notice that on September 17, 2004, Texas Eastern Transmission, LP (Texas Eastern), 5400 Westheimer Court, Houston, Texas 77056-5310, filed an application, in Docket No. CP04-416-000, for a certificate of public convenience and necessity, pursuant to section 7(c) of the NGA and Part 157 of the Commission(s regulations, to construct, install, own, operate and maintain certain pipeline facilities, referred to as the Logan Lateral, in Delaware County, Pennsylvania and Gloucester County, New Jersey. The Logan Lateral will consist of 11 miles of 30-inch pipeline capable of transporting approximately 0.9 Bcfd of regasified LNG from Crown Landing's proposed LNG terminal, located in New Jersey, across the Delaware River to an interconnection with Texas Eastern's pipeline system in Pennsylvania. Texas Eastern also requests authorization to implement an incremental initial rate to provide firm transportation service on the Logan Lateral under its existing Rate Schedule MLS-1. The estimated cost of the Logan Lateral is approximately $77.3 million. Any questions regarding this application should be directed to Steven E. Tillman, General Manager, Regulatory Affairs, Texas Eastern Transmission, LP, P.O. Box 1642, Houston, Texas 77251-1642 or phone (713) 627-5113 or FAX (713) 627-5947.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or, for TTY, contact (202) 502-659.

On January 8, 2004, the Commission staff granted Crown Landing's request to utilize the National Environmental Policy Act (NEPA) Pre-Filing Process and assigned Docket No. PF04-2-000 to staff activities involving Crown Landing. Now, as of the filing of Crown Landing's application on September 16, 2004, the NEPA Pre-Filing Process for Crown Landing's project is closed. From this time forward, Crown Landing's proceeding will be conducted in Docket No. CP04-411-000.

On January 20, 2004, the Commission staff also granted Texas Eastern's request to utilize the NEPA Pre-Filing Process and assigned Docket No. PF04-5-000 to staff activities involving Texas Eastern. Now, as of the filing of Texas Eastern's application on September 17, 2004, the NEPA Pre-Filing Process for Texas Eastern's project is closed. From this time forward, Texas Eastern's proceeding will be conducted in Docket No. CP04-416-000.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Processes in Docket Nos. PF04-2-000 and PF04-5-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. They will not have the right to seek court review of any final order by Commission in this proceeding.

The Commission strongly encourages electronic filings of comments, protests, and interventions via the Internet in lieu of paper. See, 18 CFR 385.2001(a)(1)(iii) and the instructions on the Commission's Web site (http://www.ferc.gov) under the “e-Filing” link.

Comment Date: October 20, 2004.
Magalie R. Salas,
Secretary.

[FR Doc. E4-2521 Filed 10-5-04; 8:45 am]

BILLING CODE 6717-01-P